Executive Order 14181 of January 24, 2025

Emergency Measures To Provide Water Resources in California and Improve Disaster Response in Certain Areas

By the authority vested in me as President by the Constitution and the laws of the United States of America, it is hereby ordered:

Section 1. Policy. For weeks, residents of the Los Angeles area have watched raging fires consume their homes, belongings, beloved pets, and childhood memories. Almost immediately, firefighters were unable to fight the blaze due to dry hydrants, empty reservoirs, and inadequate water infrastructure. Today, at least 28 people have lost their lives and thousands more have lost everything else, with some damage estimates calculating hundreds of billions of dollars in damage.

This tragedy affects the entire Nation, so it is in the Nation's interest to ensure that California has what it needs to prevent and fight these fires and others in the future. Therefore, it is the policy of the United States to provide Southern California with necessary water resources, notwithstanding actively harmful State or local policies. And it is the policy of the United States to assist Americans in disaster areas through responsive policies that more effectively empower them to rebuild and regain their livelihoods.

Sec. 2. Overriding Disastrous California Policies. (a) The Secretary of Defense, the Attorney General, the Secretary of Homeland Security, the Secretary of Commerce, the Secretary of the Interior, and the Secretary of Agriculture shall expeditiously take all measures, consistent with all applicable authorities, to ensure adequate water resources in Southern California. Each shall report to me within 15 days on all authorities, including emergency authorities, available to ensure, require, maintain, or use infrastructure necessary to fight and prevent massive wildfires in Southern California.

(b) In particular, the Secretary of the Interior and the Secretary of Commerce shall immediately take actions to override existing activities that unduly burden efforts to maximize water deliveries. The Secretary of the Interior and the Secretary of Commerce shall consider actions including those consistent with the “No Action Alternative” in the Final Environmental Impact Statement issued November 15, 2024, by the Bureau of Reclamation on Long-term Operation of the Central Valley Project and State Water Project.

(c) The Secretary of the Interior, including through the Bureau of Reclamation, shall utilize his discretion to operate the CVP to deliver more water and produce additional hydropower, including by increasing storage and conveyance, and jointly operating federal and state facilities, to high-need communities, notwithstanding any contrary State or local laws. The Bureau of Reclamation shall take all available measures to ensure that State agencies—including the California Department of Water Resources—do not interfere with the Bureau of Reclamation's operation of the project to maximize water delivery to high-need communities or otherwise, including but not limited to the issuance of a new Record of Decision maximizing water deliveries and consistent with the 2020 Record of Decision.

(d) In accordance with section 6 of the Executive Order of January 20, 2025 (Declaring a National Energy Emergency), the Secretary of the Interior, through the Bureau of Reclamation, and in accordance with section 1536 of title 16 United States Code, shall expedite action related to any exemption under the Endangered Species Act of 1973 (ESA), 16 U.S.C. 1531 et seq., for the Long-Term Operation of the CVP and the State Water Project for all applicable threatened and endangered species.

(e) The Secretary of the Interior shall promptly review, revise, or rescind any regulations or procedures specific to implementation of section 1536 of title 16 United States Code, as needed and consistent with applicable law, to conform with the plain meaning of the statute.

(f) The Secretary of the Interior and the Secretary of Commerce shall identify all ongoing or potential major water-supply and storage projects within the State of California for which they have joint responsibility under the ESA or individual responsibilities under the National Environmental Policy Act of 1969 (NEPA), 42 U.S.C. 4321 et seq.

(g) For each such project identified under subsection (f), the Secretary of the Interior and the Secretary of Commerce shall each designate one federal official to coordinate each agency's respective NEPA and ESA compliance responsibilities. Within 30 days from the date of this order, each designated official shall identify any regulatory hurdles that unduly burden each respective water project, identify any recent changes in state or Federal law that may impact such projects from a regulatory perspective (including Public Law 118-5), and shall develop a proposed plan, for review by the Secretaries, to appropriately suspend, revise, or rescind any regulations or procedures that unduly burden such projects and are not necessary to protect the public interest or otherwise comply with the law. In so doing, each designated federal official will coordinate and share all appropriate information that will enable improved efficiencies. For the purposes of this order, “unduly burden” means to unnecessarily obstruct, delay, curtail, impede or otherwise impose significant costs on the permitting, utilization, transmission, delivery, or supply of water resources and water infrastructure.

Sec. 3. Ending the Subsidization of California's Mismanagement. (a) The Director of the Office of Management and Budget (OMB) shall review all Federal programs, projects, and activities for all relevant agencies that impact land management, water availability, water supply, water storage and delivery, water infrastructure, and disaster preparedness and response.

(b) Within 30 days of the date of this order, to ensure that State and local jurisdictions promote sensible land management practices and reliable water supply for all Americans, the Secretary of the Interior, the Secretary of Agriculture, and the Secretary of Commerce shall jointly report to the President, through the Assistant to the President for Domestic Policy and Assistant to the President for Economic Policy, regarding California State and local policies or practices inconsistent with sound disaster prevention and response.

(c) The Director of OMB, in consultation with the Assistant to the President for Domestic Policy and Assistant to the President for Economic Policy, shall recommend appropriate action to the President, regarding:

(i) any lack of compliance by California with the terms of existing Federal grants, contracts, or other financial assistance to States or localities; and

(ii) beneficial additional terms that may be added with respect to any future Federal programs, projects, or activities to ensure sound disaster prevention and response.

Sec. 4. Additional Actions to Help Los Angeles Families. (a) Housing Displaced Families. The Secretary of Housing and Urban Development and the Secretary of Homeland Security, through the Administrator of FEMA, shall expeditiously provide an Integrated Federal Housing Strategy and Implementation Plan to the Director of OMB and the Assistant to the President for National Security Affairs that expedites options for housing relief to survivors displaced by wildfires in California.

(b) Expediting Waste Removal. Within 5 days from the date of this order, to accelerate the rebuilding of areas devastated by the recent Los Angeles wildfires, the Secretary of Defense, the Secretary of Homeland Security, through the Administrator of FEMA, and the Administrator of the Environmental Protection Agency shall develop and execute a plan to expedite the bulk removal of contaminated and general debris.

(c) Effectively Using Grants to Improve Fire Preparedness. The Secretary of Homeland Security, through the Administrator of FEMA, shall immediately implement a plan to enable the timely and appropriate use of Federal preparedness grants for the City of Los Angeles. As of the date of this order, the city has yet to use the majority of its $213 million allotment that has accrued since fiscal year 2021. These Federal preparedness grants shall not be used to support illegal aliens. The Attorney General, in coordination with the FEMA Administrator, shall investigate the misuse of these grants by the City of Los Angeles and take appropriate action to address such misuse.

Sec. 5. Additional Actions to Help North Carolina Families. (a) Clearing Roads. To accelerate rebuilding and community recovery, the Secretary of Transportation, the Secretary of Homeland Security, acting through the Administrator of FEMA, and the Administrator of the Small Business Administration shall immediately take all necessary and appropriate measures, including through direct assistance, loans, and other available means, to expedite roadway clearance or rebuilding, including the section of Interstate 40 in North Carolina that remains closed, and the repair or rebuilding of roads and bridges on private property in areas of North Carolina affected by Hurricane Helene.

(b) Housing Displaced Families. The Secretary of Housing and Urban Development and the Secretary of Homeland Security, through the Administrator of the Federal Emergency Management Agency, shall immediately provide an Integrated Federal Housing Strategy and Implementation Plan to the Director of the Office of Management and Budget and the Assistant to the President for National Security Affairs that expedites options for housing relief to survivors displaced by Hurricane Helene.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

January 24, 2025.

[FR Doc. 2025-02174

Filed 1-30-25; 11:15 am]

Billing code 3395-F4-P